OFFICE OF PERSONNEL MANAGEMENT

Submission for Review: 5 CFR 837.103, Reemployment of Annuitants, 3206-0211

AGENCY: U.S. Office of Personnel Management.

ACTION: 30-day notice and request for comments.

SUMMARY: The Retirement Services, Office of Personnel Management (OPM) offers the general public and other Federal agencies the opportunity to comment on an existing information collection request, Reemployment of Annuitants.

DATES: Comments are encouraged and will be accepted until January 3, 2023.

ADDRESSES: Written comments and recommendations for the proposed information collection should be sent within 30 days of publication of this notice to http://www.reginfo.gov/public/do/PRAMain . Find this particular information collection by selecting “Currently under Review—Open for Public Comments” or by using the search function or fax to (202) 395-6974.

FOR FURTHER INFORMATION CONTACT: A copy of this information collection, with applicable supporting documentation, may be obtained by contacting the Retirement Services Publications Team, Office of Personnel Management, 1900 E Street, NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995, OPM is soliciting comments for this collection. The information collection (OMB No. 3206-0211) was previously published in the Federal Register on February 24, 2022, at 87 FR 10394, allowing for a 60-day public comment period. No comments were received for this information collection. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM regulations under 5 CFR 837.103 require employing agencies to collect certain information from reemployed annuitants on or before the date the employing agency appoints a reemployed annuitant to a Government position. Agencies need to collect timely information regarding the type and amount of annuity being received so the correct rate of pay can be determined. Agencies provide this information to OPM so a determination can be made whether the reemployed annuitant's retirement annuity must be terminated or suspended upon reemployment.

Analysis

Agency: Retirement Operations, Retirement Services, Office of Personnel Management.

Title: 5 CFR 837.103, Notice.

OMB Number: 3206-0211.

Frequency: On occasion.

Affected Public: Individuals or households.

Number of Respondents: 3,000.

Estimated Time per Respondent: 5 minutes.

Total Burden Hours: 250.

U.S. Office of Personnel Management.
Kellie Cosgrove Riley,
Director, Office of Privacy and Information Management.

[FR Doc. 2022-26301 Filed 12-1-22; 8:45 am]

BILLING CODE 6325-38-P